Title 3—

The President

Executive Order 13656 of January 17, 2014

Establishment of Afghanistan and Pakistan Strategic Partnership Office and Amendment to Executive Order 12163

By the authority vested in me as President by the Constitution and the laws of the United States of America, including section 202 of the Revised Statutes (22 U.S.C. 2656) and section 3161 of title 5, United States Code, it is hereby ordered as follows:

Section 1. Establishment. There is established within the Department of State, in accordance with section 3161 of title 5, United States Code, a temporary organization to be known as the Afghanistan and Pakistan Strategic Partnership Office (APSPO).

Sec. 2. Purpose of the Temporary Organization. The purposes of the APSPO shall be to perform the specific project of supporting executive departments and agencies (agencies) in facilitating a strategic partnership between the U.S. Government and the governments of Afghanistan and Pakistan, promoting further security and stabilization, and transitioning to a normalized diplomatic presence in both countries.

Sec. 3. Functions of the Temporary Organization. In carrying out the purposes set forth in section 2 of this order, the APSPO shall:

(a) support agencies in transitioning to a strategic partnership with the governments of Afghanistan and Pakistan in the economic, diplomatic, cultural, technology, and security fields, particularly in the areas of program management, rule of law, and program oversight;

(b) coordinate the final drawdown of the Department of State's civilian field operations and staff in Afghanistan;

(c) coordinate and oversee the administration of certain State Department assistance funds; and

(d) perform such other functions related to the specific project set forth in section 2 of this order as the Secretary of State (Secretary) may assign.

Sec. 4. Personnel and Administration. The APSPO shall be headed by a Director appointed by the Secretary. The APSPO shall be based in Washington, DC, Pakistan, and Afghanistan.

Sec. 5. Termination of the Temporary Organization. The APSPO shall terminate at the end of the maximum period permitted by section 3161(a)(1) of title 5, United States Code, unless terminated sooner by the Secretary.

Sec. 6. Delegation of Certain Determination Functions. Executive Order 12163 of September 29, 1979, as amended, is further amended, in section 1-701(c), by striking the semicolon and all subsequent text before the period.

Sec. 7. General Provisions. (a) This order shall be implemented in accordance with applicable law and subject to the availability of appropriations.

(b) Nothing in this order shall be construed to impair or otherwise affect:

(i) the authority granted by law to a department or agency, or the head thereof; or

(ii) the functions of the Director of the Office of Management and Budget relating to budgetary, administrative, or legislative proposals.

(c) This order is not intended to, and does not, create any right or benefit, substantive or procedural, enforceable at law or in equity by any party against the United States, its departments, agencies, or entities, its officers, employees, or agents, or any other person.

THE WHITE HOUSE,

January 17, 2014.

[FR Doc. 2014-01523

Filed 1-23-14; 11:15 am]

Billing code 3295-F4